DEPARTMENT OF ENERGY

National Coal Council Meeting

AGENCY: Office of Fossil Energy and Carbon Management, Department of Energy.

ACTION: Notice of open meeting.

SUMMARY: This notice announces a meeting of the National Coal Council. The Federal Advisory Committee Act requires that public notice of this meeting be announced in the Federal Register.

DATES: Thursday, January 15, 2026; 11 a.m. to no later than 12 noon (EST).

ADDRESSES: White House Executive Studios and Conference Centers (ESCC), Indian Treaty Room, Room 474, Eisenhower Executive Office Building, 1650 17th Street NW, Washington, DC 20500. In-person meeting. Information to access a live stream of the meeting proceedings will be available at: https://nationalcoalcouncil.energy.gov/ncc.

FOR FURTHER INFORMATION CONTACT: Tom Sarkus, U.S. Department of Energy, National Energy Technology Laboratory; telephone: (412) 386-5981 or email: thomas.sarkus@netl.doe.gov or telephone (412) 386-5981.

SUPPLEMENTARY INFORMATION:

Purpose of the Committee: To provide advice, information, and recommendations to the Secretary of Energy on matters relating to coal and the coal industry.

Purpose of the Meeting: The National Coal Council will hold a meeting on January 12, 2026, to present government representatives and members.

Tentative Agenda:

• Welcome from the White House and Meeting Room Logistics;

• Welcome and Congratulatory Remarks from the Secretary of Energy;

• Remarks from the Assistant Secretary of Fossil Energy and Carbon Management;

• Introduction of National Coal Council Members;

• Public Statements, if any; and

• Dismissal.

Public Participation: The meeting is accessible to the public via live stream. The Chair of the Council will conduct the meeting to facilitate the orderly conduct of business. Members of the public who wish to make oral statements pertaining to agenda items should contact Mr. Tom Sarkus at the email address or telephone number listed above. Approximately 10 minutes will be reserved for public comments. The time allocated per speaker will depend on the number of requests received but will not exceed five minutes. Requests for oral statements must be received at least seven days prior to the meeting. Those not able to attend the meeting or having insufficient time to address the Council are invited to send a written statement to thomas.sarkus@netl.doe.gov. Any member of the public who wishes to file a written statement to the Council will be permitted to do so, either before or after the meeting.

Minutes: The minutes of the meeting will be available at https://nationalcoalcouncil.energy.gov/ncc or by contacting Mr. Sarkus. He may be reached at the email address or telephone number listed previously.

Signing Authority: This document of the Department of Energy was signed on December 19, 2025, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 19, 2025.
Jennifer Hartzell,
Alternate Federal Register Liaison Officer, U.S. Department of Energy.

[FR Doc. 2025-23766 Filed 12-22-25; 8:45 am]

BILLING CODE 6450-01-P